DEPARTMENT OF VETERANS AFFAIRS

[2900-New]

Agency Information Collection Activity: Service Level Measurement—PREVENTS Survey

AGENCY: Veterans Experience Office, Department of Veterans Affairs.

ACTION: Notice.

SUMMARY: The Veterans Experience Office (VEO), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before May 12, 2020.

ADDRESSES: Submit written comments on the collection of information through Federal Docket Management System (FDMS) at www.Regulations.gov or to Evan Albert, Veterans Experience Office, Department of Veterans Affairs, 810 Vermont Avenue NW, Washington, DC 20420 or email to evan.albert@va.gov. Please refer to “Service Level Measurement—PREVENTS Survey” in any correspondence. During the comment period, comments may be viewed online through FDMS.

FOR FURTHER INFORMATION CONTACT: Danny S. Green at (202) 421-1354.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VEO invites comments on: (1) Whether the proposed collection of information is necessary for the proper performance of VEO's functions, including whether the information will have practical utility; (2) the accuracy of VEO's estimate of the burden of the proposed collection of information; (3) ways to enhance the quality, utility, and clarity of the information to be collected; and (4) ways to minimize the burden of the collection of information on respondents, including through the use of automated collection techniques or the use of other forms of information technology.

Authority: Executive Order 12862.

Title: Service Level Measurement—PREVENTS Survey.

OMB Control Number: None.

Type of Review: New collection.

Abstract: This survey provides customer experience insights related to the experience of Veterans in accessing services and resources made possible via Executive Order 13861, known as the President's Roadmap to Empower Veterans and End a National Tragedy of Suicide (PREVENTS). Feedback on this survey from Veterans Service Organizations, Veterans, and community organizations will help ensure that the PREVENTS Office has the information it needs to implement the Roadmap and communicate its efforts to empower Veterans and prevent suicide. Survey respondents will include Veterans Service Organization Members, Veterans, and individuals affiliated with nonprofit and community organizations. This survey is a non-probability-based survey and is not intended to make inferences about any overall population. This survey will be administered to Veterans who are affiliated with Veteran Service Organizations, individuals affiliated with Veteran-focused community-based or nonprofit organizations, or individuals who are affiliated with Veteran Service Organizations (VSOs).

The survey will be publicized via an article that contains a survey link in a Blog in the Vet Resources Newsletter produced by the Department of Veterans Affairs, email communications with Veterans Service Organizations, and email, in-person, and video-message communications to community-based organizations and strategic partners. Collected data are uploaded to the VSignals survey analysis tool and raw data are made present for analysis.

Survey questions focus on current and potential mental health resources, communication channels, and outreach strategies that are currently being provided, or could be provided, to Veterans to ensure their safety and security.

Affected Public: Individuals.

Estimated Annual Burden: 4,767 hours.

Estimated Average Burden per Respondent: 5 minutes.

Frequency of Response: Once.

Estimated Number of Respondents: 57,200.

By direction of the Secretary.
Danny S. Green,
VA PRA Clearance Officer, Office of Quality, Performance and Risk, Department of Veterans Affairs.

[FR Doc. 2020-05143 Filed 3-12-20; 8:45 am]

BILLING CODE 8320-01-P